DEPARTMENT OF AGRICULTURE

Federal Crop Insurance Corporation

Request for Applications (RFA): Crop Insurance Education and Information Programs for Farmers and Ranchers in Targeted States

AGENCY: Federal Crop Insurance Corporation, USDA.

ACTION: Announcement of availability of funds and request for applications under the Federal Crop Insurance Education and Information Programs for Farmers and Ranchers in Targeted States.

SUMMARY: In accordance with section 524 of the Federal Crop Insurance Act (Act), the Federal Crop Insurance Corporation (FCIC) announces the availability of approximately $2 million for cooperative agreements that will be used to establish crop insurance education and information programs in fifteen States that have been determined to have low participation or are underserved by the crop insurance program. Funding will be limited to a maximum of one project in each of the fifteen States. Awards, on a competitive basis, will be for a period of up to one year. This announcement lists the information needed to submit an application for these funds.

CLOSING DATES: The closing date and time for receipt of applications is 5 p.m. EST on June 3, 2002. The agency will not consider applications received after the deadline.

FOR FURTHER INFORMATION CONTACT: Applicants and other interested parties are encouraged to contact: Lydia Astorga, USDA-RMA-RME, 1400 Independence Ave. SW., Stop 0808, (Portals Bldg., Suite 508), Washington, DC 20250-0808, phone: 202-260-4728, fax: 202-690-3605, e-mail: Lydia_Astorga@wdc.usda.gov. You may also obtain information regarding this announcement from the RMA Web site at: www.rma.usda.gov.

Applicants may download an applications package from the Risk Management Agency (RMA) Web site at: www.rma.usda.gov. Applicants may also request an application package from: Lydia Astorga, USDA-RMA-RME, 1400 Independence Ave. SW., Stop 0808, (Portals Bldg., Suite 508), Washington, DC 20250-0808, phone: 202-260-4728, fax: 202-690-3605, e-mail: Lydia_Astorga@wdc.usda.gov.

Applicants are strongly encouraged to submit completed and signed application packages using overnight mail or delivery service to ensure timely receipt by the USDA. The applicable address for such submissions is: RME Cooperative Agreement Program, c/o Lydia Astorga, USDA-RMA-RME, 1250 Maryland Ave. SW., Suite. 508, Washington, DC 20024.

Completed and signed application packages sent via the U.S. Postal Service must be sent to the following address: RME Cooperative Agreement Program, c/o Lydia Astorga, USDA-RMA-RME, 1400 Independence Ave. SW., Stop 0808, (Portals Bldg. Suite 508), Washington, DC 20250-0808.

Paperwork Reduction Act

Under the provisions of the Paperwork Reduction Act of 1995, as amended (44 U.S.C. chapter 25), the collection of information requirements contained in this announcement have been approved under OMB Document Nos. 0348-0043, 0348-0044, and 0348-0046. The Catalog of Federal Domestic Assistance Number for this program is 10.450.

SUPPLEMENTARY INFORMATION: This program announcement consists of six parts:

Part I—General Information

A. Authority

B. Background

C. Project Goals

D. Purpose

Part II—Program Objectives and Requirements

A. Eligible Applicants

B. Project Period

C. Availability of Funds and Amounts

Part III—Program Description

A. Recipient Activities

B. RMA Activities

Part IV—Preparation of an Application

A. Program Application Materials

B. Content of Applications

C. Submission of Applications

D. Acknowledgement of Applications

Part V—Review Process

A. General

B. Evaluation Criteria and Weights

C. Confidentiality

Part VI—Additional Information

A. Access to Panel Review Information

B. Notification of Cooperative Agreement Awards

C. Confidential Aspects of Proposals and Awards

D. Reporting Requirements

E. Audit Requirements

F. Prohibitions and Requirements with Regard to Lobbying

Part I—General Information

A. Authority

This program is authorized under section 524(a)(2) of the Federal Crop Insurance Act (7 U.S.C. 1524(a)(2)).

B. Background

FCIC is committed to meeting the crop insurance needs of the nation's farmers and ranchers. It does this by offering Federal crop insurance products through a network of private-sector partners, overseeing the creation of new crop insurance products, seeking enhancements in existing products, ensuring the integrity of crop insurance programs, offering outreach programs aimed at equal access and participation in underserved communities, and providing crop insurance education and information.

FCIC's educational mission was strengthened significantly with the enactment of section 524 of the Act. This section increases the funding for educational and outreach efforts in States that have historically been underserved by Federal crop insurance program. In accordance with section 524 of the Act, the Secretary of Agriculture determined that the fifteen States that met the criteria for “underserved” were Maine, New Hampshire, Vermont, Connecticut, Rhode Island, Massachusetts, New York, New Jersey, Delaware, Maryland, Pennsylvania, West Virginia, Utah, Nevada, and Wyoming. These states are collectively referred to as the “Targeted States.”

C. Project Goals

The goals of these educational projects if to provide farmers and ranchers with urgently needed training and information to be able to understand:

• The kinds of risks addressed by Federal crop insurance and other risk management tools;

• The types of existing and emerging crop insurance products available;

• How the use of crop insurance can help them manage risk; and

• How the use of crop insurance can affect other risk management decisions, such as the use of marketing and financial tools.

D. Purpose

The purpose of this program is to ensure that farmers and ranchers in the Targeted States take full advantage of existing and emerging Federal crop insurance products and other risk management tools. Each cooperative agreement awarded through this program will provide the recipient with funds, guidance, and the substantial involvement of the Risk Management Agency (RMA) to carry out a crop insurance education and information program in a Targeted State.

For some farms in Targeted States, existing Federal crop insurance products are either not available or need significant enhancements to provide effective protection. The 2000 Act envisions new and enhanced insurance products that will meet the needs of an increased number of farmers and ranchers. Until these new products are available, producers would still benefit from crop insurance education to provide a solid foundation of knowledge for when such products envisioned in the 2000 Act will be offered.

The ideal time to reach producers with education programs in most Targeted States is after harvesting has ended and before spring plantings begin—roughly a period of November through March. Therefore, this announcement anticipates that educational activities directed towards producers will be planned mostly for the November, 2002 through March, 2003 period. However, it does not limit educational activities to this time period. To reach producers during the peak educational period, it is anticipated that project leaders will need sufficient lead-time to organize and schedule events, commit funds to reserve event facilities, gather materials, raise awareness, and otherwise make the preparations needed to ensure producer participation. Most of all, project leaders need time to foster the cooperation and active support of organizations with close ties to local producers. The cooperation of such organizations is essential in influencing local producers to participate in the type of activities envisioned in this educational program.

Part II—Program Objectives and Requirements

A. Eligible Applicants

Eligible applicants include State departments of agriculture, State land-grant universities, non-profit agricultural organizations, and other public or private organizations with the local experience needed to lead an educational program for farmers and ranchers within the Targeted States. Applicants may apply to deliver education in more than one State, but a separate application must be submitted for each State. Applications for projects directed to producers outside of the Targeted States will not be considered for funding.

B. Project Period

Funding will be limited to a maximum of one project for each Targeted State. Each project will be funded for a period of up to one year for the activities described in this announcement.

C. Availability of Funds and Amounts

Approximately $2,000,000 is available in fiscal year 2002 to fund up to 15 projects, a maximum of one project for each of the Targeted States. It is expected that the awards will be made [30 days after application deadline] The maximum funding amount available for each Targeted State's project is as follows:

Maine | $102,000
New Hampshire | 77,000
Vermont | 103,000
Connecticut | 99,000
Rhode Island | 70,000
Massachusetts | 94,000
New York | 276,000
New Jersey | 117,000
Pennsylvania | 342,000
Maryland | 167,000
Delaware | 115,000
West Virginia | 93,000
Nevada | 89,000
Utah | 132,000
Wyoming | 124,000
Total | 2,000,000

These project funding maximums were determined by first allocating approximately half the funds by providing an equal amount of $67,667 to each Targeted State. The remaining funds were allocated on a pro rata basis according to each Targeted State's share of 1999 agricultural cash receipts relative to the total for all Targeted States. The totals of both allocations for each Targeted State were then rounded to the nearest $1,000.

Part III—Program Description

In conducting activities to achieve the purpose and goals of this program, the applicant will be responsible for the activities listed under paragraph A of this part. RMA will provide substantial technical assistance on the presentation and dissemination of Federal crop insurance information and will be specifically responsible for the activities listed under paragraph B.

A. Recipient Activities

The applicant will be required to perform the following activities:

1. Assemble a crop insurance curriculum for the producers in the Targeted State. This will include: (a) Gathering existing instructional materials that meet the local crop insurance needs of agricultural producers; (b) identifying instructional gaps in existing materials; and (c) developing new materials or modifying existing materials to fill existing gaps.

2. Develop and conduct a promotional program. This program will include activities using media, newsletters, publications, or other informational dissemination techniques that are designed to: (a) Raise awareness for crop insurance; (b) inform producers of the availability of crop insurance and (c) inform producers of the educational curriculum being offered.

3. Deliver education and information to agribusiness professionals. This will include organizing and delivering training to those agribusiness professionals in the Targeted States that have frequent opportunities to advise farmers and to those individuals that will directly train producers under this program.

4. Organize and deliver the education curriculum developed in subparagraph (1) to agricultural producers in the Targeted States. This will include organizing and delivering the curriculum through trained instructors to local farmers and ranchers in the Targeted States.

5. Use a program logo and design provided by RMA for all instructional and promotional material.

6. Document all education and preparatory activities done and the results of such activities under the cooperative agreement, state the evaluation criteria to be used to determine whether the educational program was a success, and work with an RMA-selected contractor to evaluate all educational activities and advise RMA as to the effectiveness of activities.

7. Create and implement a program delivery plan that contains each of the tasks to be performed to accomplish all the goals and responsibilities under this announcement, the manner in which task and goal will be accomplished, including RMA's role and responsibilities, and the dates by which such tasks will be completed.

B. RMA Activities

RMA will be responsible for the following activities:

1. Collaborate on organization of the crop insurance education curriculum developed by the applicant for producers in the Targeted State. This will include: (a) Serving on curriculum development workgroups; (b) providing curriculum developers with fact sheets and other crop insurance publications from RMA; (c) advising the applicant on the materials available over the internet through the AgRisk Education Library; (d) advising the applicant on technical issues related to crop insurance instructional materials; (e) advising the applicant on the use of the standardized design and layout formats to be used on program materials; and (f) reviewing and approving in advance all educational materials for technical accuracy.

2. Collaborate on a promotional program for raising awareness on crop insurance and for informing producers of educational opportunities in the Targeted States. This will: (a) Serving on workgroups that plan promotional programs; (b) advising the applicant on technical issues relating to the presentation of crop insurance products in promotional materials; (c) participating, as appropriate, in media programs designed to raise general awareness or provide farmers with crop insurance education; and (d) reviewing and approving in advance all promotional plans, materials, and programs.

3. Collaborate on the organization and delivery of training to agribusiness leaders and producer trainers. This would include: (a) Advising the applicant on technical issues related to the delivery of crop insurance education and information to agribusiness professionals; (b) assisting the applicant in informing crop insurance professionals about agribusiness training plans and scheduled meetings; (c) participating, in the presentation of training to agribusiness professionals; and (d) reviewing and approving in advance all agribusiness training plans.

4. Collaborate on the organization and delivery of crop insurance education to agricultural producers. This will include: (a) Advising the applicant on technical issues relating to the delivery of crop insurance education and information to farmers and ranchers; (b) assisting the applicant in informing crop insurance professionals about farmer and rancher training activities; and (c) reviewing and approving in advance all producer training plans.

In addition to the specific activities listed above, the applicant may suggest other activities that would contribute directly to the purpose of this program. For any additional activity suggested, the applicant should identify specific ways in which RMA could have substantial involvement in that activity.

Part IV—Preparation of an Application

A. Program Application Materials

Program application materials under this announcement may be downloaded from the RMA Web site at: www.rma.usda.gov. Applicants may also request application materials from: Lydia Astorga, USDA-RMA-RME, 1400 Independence Ave. SW., Stop 0808, (Portals Bldg., Suite 508), Washington, DC 20250-0808, phone: (202) 260-4728, fax: (202) 690-3605, e-mail: Lydia_Astorga@wdc.usda.gov.

B. Content of Applications

A complete and valid application package must include the following:

1. A completed and signed OMB Standard Form 424, “Application for Federal Assistance”.

2. A completed and signed OMB Standard Form 424-A, “Budget Information—Non-construction Programs''.

3. A written narrative (limited to 10 single-sided pages) that describes the educational project, the program delivery plan, the evaluation criteria to determine whether the program was successful, and provides reviewers with sufficient information to effectively evaluate the application under the criteria contained in Part V.

4. An Appendix containing any attachments that may support information in the narrative (Optional)

5. A completed and signed OMB Standard Form LLL, “Disclosure of Lobbying Activities.”

C. Submission of Applications

An original and two copies of the completed and signed application must be submitted in one package at the time of initial submission.

All applications must be submitted by the deadline. Applications that do not meet all the requirements in this announcement are considered as late applications. Late applications will not be considered in the current competition and will be returned to the applicant.

Applications submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the note “Attention: Crop Insurance Education and Information Program.”

Mailed applications will be considered meeting the announced deadline if they are received on or before the deadline in the mailroom at the address stated above for mailed applications. Applicants are responsible for mailing applications well in advance, to ensure that applications are received on or before the deadline time and date. Applicants using the U.S. Postal Service should allow for the extra time for delivery due to the additional security measures that mail delivered to government offices in the Washington DC area now requires. RMA cannot accommodate transmissions of applications by facsimile or through other electronic media. Therefore, applications transmitted electronically will not be accepted regardless of the date or time of submission or the time of receipt.

D. Acknowledgement of Applications

Receipt of applications will be acknowledged by e-mail, whenever possible. Therefore, applicants are encouraged to provide e-mail addresses. If an e-mail address is not indicated on an application, receipt will be acknowledged by letter.

When received by RMA, applications will be assigned an identification number. This number will be communicated to applicants in the acknowledgement of receipt of applications. An applications identification number should be referenced in all correspondence regarding the application. If the applicant does not receive an acknowledgement within 60 days of the submission deadline, the applicant should contact Lydia Astorga at (202) 260-4728.

Part V—Review Process

A. General

Each application will be evaluated using a two-part process. First, each application will be screened by RMA personnel to ensure that it meets the requirements in this announcement sorted by the Targeted State in which the applicant proposes to deliver crop insurance education and information. Each application that meet the deadlines and are in conformance with all requirements in this announcement will be reviewed competitively.

Second, a review panel will consider the merits of applications that pass the initial screen. The panel for each application will be comprised of not less than three independent reviewers from USDA, other federal agencies, and others representing public and private organizations, as needed. The narrative, and any appendixes, provided by each applicant will be used by the review panel to evaluate the merits of the project that is being proposed for funding. The panel will examine, rank, and score applications in each Targeted State based on the “Evaluation Criteria and Weights” contained in this paragraph B of this part. Each Targeted State's applications will be evaluated, ranked, and scored independently.

Applications will be evaluated in each of the five criteria listed below and the top five applications for each Targeted State will be ranked one through five, with one being the highest, for each category. Each criteria has specific elements that the panel will look at when evaluating the applications and ranking them. A specific number of points are assigned to each of the top five rankings. The numerical scored will be supported by explanatory statements on the formal rating form describing the major strengths and weaknesses under each applicable criteria contained in paragraph B of this part.

After evaluating each of the applications, the scores for each reviewer on the panel will be averaged for each criterion. After the scores for each criterion have been averaged, they will be totaled together to determine the final score. This ranking scheme assumes that at least five applications are available for evaluation in each Targeted State. If less than five applications are available for a Targeted State, then for each criterion, reviewers will assign the available applications to one of the five available ranking slots with its associated score, according to the application's merits with respect to that criterion. If the final score of the highest rated application for a Targeted State is less that 50, the panel may, at its discretion, recommend not funding the application.

After all applications have been rated, ranked, and scored, a lottery will be used to resolve any instances of a tie total score for the winning application for a given State. If such a lottery is required for a given Targeted State, the names of all tied applicants will be entered into a drawing. The first applicant drawn will be recommended to receive a cooperative agreement for that Targeted State.

The review panel will report to the Manager of FCIC on the results from each Targeted State. The panel's report will include the recommended applicant to receive a cooperative agreement. If the final score of the highest rated application for a Targeted State is less that 50, the panel may, at its discretion, recommend not funding the application. The Manager of FCIC will make the final determination on those applications that will be awarded funding.

B. Evaluation Criteria and Weights

Applications will be evaluated according to the following criteria:

1. Management—maximum 15 points

The applicant must demonstrate their ability to implement sound and effective management practices and have the organizational skills, leadership, and experience in delivering services or programs that assist agricultural producers in the Targeted State. If they have been recipients of other Federal or other government grants, cooperative agreements, or contracts, the applicant must also detail that they have consistently complied with financial and program reporting and auditing requirements. Applicants that will employ, or have access to, personnel who have experience in directing agricultural programs or providing educations programs that benefit producers in the Targeted State will receive higher rankings.

The application ranking and scoring for each Targeted State for the Management criteria are:

Ranking | Scoring
Highest | 15 points.
2nd Highest | 12 points.
3rd Highest | 9 points.
4th Highest | 6 points.
5th Highest | 3 points.

2. Partnering—maximum 25 points

The applicant must demonstrate experience and capacity to partner with and gain the support of grower organizations, agribusiness professionals, and agricultural leaders to carry out a local program of crop insurance education and information in the Targeted State. Applicants that can demonstrate and document that partnership commitments are in place for the express purpose of delivering the program in this announcement will receive higher rankings than applicants that cannot demonstrate existing partnerships. Moreover, applicants with existing partnerships reaching a broader group of farmers and ranchers will be ranked higher than those with more limited partnerships.

The application ranking and scoring for each Targeted State for the Partnering criteria are:

Ranking | Scoring
Highest | 25 points.
2nd Highest | 20 points.
3rd Highest | 15 points.
4th Highest | 10 points.
5th Highest | 5 points.

3. Goals and Objectives—maximum 25 points

For each of the applicant's responsibilities contained in part III, the applicant must demonstrate that it can establish specific goals, tasks, and time lines that further the purpose of this program. Applicants will obtain a higher ranking to the extent that the goals envisioned for each task of the project are specific, measurable, realistic, have specific time frames for completion, and relate directly to the required activities and program objectives described in this announcement.

The application ranking and scoring for each State for the Goals and Objectives criteria are:

Ranking | Scoring
Highest | 25 points.
2nd Highest | 20 points.
3rd Highest | 15 points.
4th Highest | 10 points.
5th Highest | 5 points.

4. Cost Effectiveness—maximum 20 points

The applicant must demonstrate that the direct and indirect crop insurance education benefits to farmers and ranchers in the Targeted State warrant the funding requested. Applicants will be ranked according to the extent to which they can effectively demonstrate that the quantity and quality of the crop insurance education and information received by producers during the project is maximized relative to the requested funding. Expected educational benefits can be estimated both directly (through the hours of educational activities planned specifically for agricultural producers and the expected number of producers to be reached) and indirectly (through educational activities planned for agribusiness professionals who will relay information to producers). Higher rankings in each Targeted State will be awarded to those applicants with greater expected benefits for producers relative to the funds that are requested by the applicant.

The application ranking and scoring for each State for the Cost Effectiveness criteria are:

Ranking | Scoring
Highest | 20 points.
2nd Highest | 16 points.
3rd Highest | 12 points.
4th Highest | 8 points.
5th Highest | 4 points.

5. Program Delivery Plan_maximum 15 points

The applicant must demonstrate that its program delivery plan will be effective. Higher rankings will be given to those applicants that can demonstrate that it has an effective plan for each of the required responsibilities contained in part III. Also, those applicants that can demonstrate that its plan can be expected to lead to increased risk awareness of crop insurance by agribusiness professionals and producers in the Targeted State will receive higher rankings.

The application ranking and scoring for each State for the Program Delivery Plan criteria are:

Ranking | Scoring
Highest | 15 points.
2nd Highest | 12 points.
3rd Highest | 9 points.
4th Highest | 6 points.
5th Highest | 3 points.

The names of applicants, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Part VI—Additional Information

A. Access to Panel Review Information

Copies of rating forms, not including the identity of reviewers, will be sent to the applicant after the review and awards process has been completed.

B. Notification of Cooperative Agreement Awards

Following approval of the applications selected for funding, notice of project approval and authority to draw down funds will be made to the selected applicants in writing. Within the limit of funds available for such purpose, the awarding official of RMA shall enter into cooperative agreements with those applicants whose applications are judged to be most meritorious under the procedures set forth in this announcement, which provides the amount of Federal funds for use in the project period, the terms and conditions of the award, and the time period for the project. The effective date of the cooperative agreement shall be the date the agreement is executed by both parties it shall remain in effect for not more that one year. All funds provided to the applicant by FCIC must be expended solely for the purpose for which the funds are obligated in accordance with the approved application and budget, the regulations, the terms and conditions of the award, and the applicability of Federal cost principles. No commitment of Federal assistance beyond the project period is made or implied, as a result of any award made as a result of this announcement.

C. Confidential Aspects of Proposals and Awards

When an application results in a cooperative agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application. The original copy of a proposal that does not result in an award will be retained by RMA for a period of one year. Other copies will be destroyed. Such a proposal will be released only with the express written consent of the applicant or to the extent required by law. A proposal may be withdrawn at any time prior to award.

D. Reporting Requirements

The applicants awarded the cooperative agreement will be required to submit semi-annual progress and financial reports (SF-269) throughout the project period, as well as a final program and financial report not later than 90 days after the end of the project period.

E. Audit Requirements

The applicants awarded the cooperative agreement are subject to audit.

F. Prohibitions and Requirements with Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors (1) To certify that they have neither used nor will use any appropriated funds for payment of lobbyists; (2) to disclose the name, address, payment details, and purpose of any agreements with lobbyists whom recipients of their subcontractors will pay with profits or other nonappropriated funds on or after December 22, 1989; ad (3) to file quarterly up-dates about the use of lobbyists if material changes occur in their use. The law establishes civil penalties for non-compliance. A copy of the certification and disclosure forms must be submitted with the application and are available from Lydia Astorga at the above stated address and telephone number.

Signed in Washington, DC, on April 15, 2002.
Ross J. Davidson, Jr.,
Manager, Federal Crop Insurance Corporation.

[FR Doc. 02-9616 Filed 4-18-02; 8:45 am]

BILLING CODE 3410-08-P